DEPARTMENT OF LABOR

Employee Benefits Security Administration

192nd Meeting of the Advisory Council on Employee Welfare and Pension Benefit Plans; Notice of Meeting

Pursuant to the authority contained in Section 512 of the Employee Retirement Income Security Act of 1974 (ERISA), 29 U.S.C. 1142, the 192nd meeting of the Advisory Council on Employee Welfare and Pension Benefit Plans (also known as the ERISA Advisory Council) will be held on August 14-16, 2018.

The three-day meeting will take place at the U.S. Department of Labor, 200 Constitution Avenue NW, Washington, DC 20210, in C5521 Room 4. The meeting will run from 1:00 p.m. to approximately 5:30 p.m. on August 14 and from 9:00 a.m. to approximately 5:30 p.m. on August 15, with a one hour break for lunch, and from 9:00 a.m. to 11:00 a.m. on August 16. The purpose of the open meeting is for Advisory Council members to hear testimony from invited witnesses and to receive an update from the Employee Benefits Security Administration (EBSA). The EBSA update is scheduled for the morning of August 16, subject to change.

The Advisory Council will study the following topics: (1) Evaluating the Department's Regulations and Guidance on ERISA Bonding Requirements and Exploring Reform Considerations (on August 14); and, (2) Lifetime Income Products as a Qualified Default Investment Option (QDIA)—Focus on Decumulation and Rollovers (on August 15). It will continue with discussions of its topics on August 16. Descriptions of these topics are available on the Advisory Council page of the EBSA website, at https://www.dol.gov/agencies/ebsa/about-ebsa/about-us/erisa-advisory-council.

Organizations or members of the public wishing to submit a written statement may do so by submitting 40 copies on or before August 7, 2018, to Larry Good, Executive Secretary, ERISA Advisory Council, U.S. Department of Labor, Suite N-5623, 200 Constitution Avenue NW, Washington, DC 20210. Statements also may be submitted as email attachments in word processing or pdf format transmitted to good.larry@dol.gov. It is requested that statements not be included in the body of the email. Statements deemed relevant by the Advisory Council and received on or before August 7 will be included in the record of the meeting and made available through the EBSA Public Disclosure Room, along with witness statements. Do not include any personally identifiable information (such as name, address, or other contact information) or confidential business information that you do not want publicly disclosed. Written statements submitted by invited witnesses will be posted on the Advisory Council page of the EBSA website, without change, and can be retrieved by most internet search engines.

Individuals or representatives of organizations wishing to address the Advisory Council should forward their requests to the Executive Secretary or telephone (202) 693-8668. Oral presentations will be limited to 10 minutes, time permitting, but an extended statement may be submitted for the record. Individuals with disabilities who need special accommodations should contact the Executive Secretary by August 7.

Signed at Washington, DC, this 9th day of July 2018.
Preston Rutledge,
Assistant Secretary, Employee Benefits Security Administration.

[FR Doc. 2018-15207 Filed 7-16-18; 8:45 am]

BILLING CODE 4510-29-P